DEPARTMENT OF HEALTH AND HUMAN SERVICES

Centers for Disease Control and Prevention

[30DAY-30-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Survey of User Satisfaction with National Health Care Survey Data—New—National Center for Health Statistics (NCHS), Centers for Disease Control and Prevention (CDC). This Survey of User Satisfaction with National Health Care Survey Data is needed to provide current information on the use and usefulness of the variety of data products describing health care delivery systems in the United States. The National Health Care Survey comprises several component surveys: National Hospital Discharge Survey, National Nursing Home Survey, National Home and Hospice Care Survey, National Ambulatory Medical Care Survey, National Hospital Ambulatory Medical Care Survey and occasional other similar surveys when funded, such as the National Health Provider Inventory. Unlike other national surveys conducted by CDC National Center for Health Statistics, the National Health Care surveys address the health care delivery systems rather than the vital statistics, health status, health-related behavior, and access to care experienced by individuals and households who are consumers of the health care delivery systems. Between the years of 1968 and 1984, a number of surveys were conducted to learn more about National Center for Health Statistics (NCHS) data users and to assess the quality of data dissemination activities conducted by NCHS. Studies focusing solely on user satisfaction with National Health Care Survey data products have not been conducted since 1984. We need current specific information on how well our users' needs are being met, how to improve our data products, and how to serve current non-users of our data who are, nonetheless, potential users. Our data products consist mainly of published reports and web-published data sets including Data Highlights and E-Stats. Our published reports include Advance Data Reports, a newsletter-like summary of more detailed analyses to be published later, and Series Reports, which are in-depth analyses of specific topics addressed by our collected data. As the contractor for this project, CHPS Consulting will conduct a multi-mode survey using a web-based survey for those in the sample for whom an email address is available and a mail survey for those without an email address. Current users will be asked questions about what publications they use, how they use them, and their opinion of the timeliness, accessibility, format, and quality of the data publications. Non-users will be asked why they do not use our publications, their current sources of health care provider data, and how we improve data products to meet their needs. Our target population will include the following groups of persons: researchers, educators, health facility administrators, practitioners, and policymakers. Our goal for this survey is to obtain 600 returned surveys with an approximately equal number of returned surveys from users and non-users. The total annualized burden is 75 hours.

Respondents | Number of respondents | Number of responses per respondent | Avg. burden per response (in hrs.)
Users | 300 | 1 | 10/60
Non-Users | 300 | 1 | 5/60

Dated: May 9, 2001.
Nancy Cheal,
Acting Associate Director for Policy, Planning and Evaluation, Centers for Disease Control and Prevention.

[FR Doc. 01-12373 Filed 5-15-01; 8:45 am]

BILLING CODE 4163-18-P